DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web site at http://www.msha.gov/indexes/petition.htm The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Roslyn B. Fontaine, Office of Standards, Regulations and Variances at 202-693-9475 (Voice), fontaine.roslyn@dol.gov (Email), or 202-693-9441 (Telefax), or Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2012-002-C.

FR Notice: 77 FR 14427 (3/9/2012).

Petitioner: Wolf Run Mining Company, 99 Edmiston Way, Buckhannon, West Virginia 26201.

Mine: Sentinel Mine, MSHA Mine I.D. No. 46-04168, located in Barbour County, West Virginia.

Regulation Affected: 30 CFR 75.1700 (Oil and gas wells).

• Docket Number: M-2012-031-C.

FR Notice: 77 FR 19723 (4/2/2012).

Petitioner: White Oak Resources, LLC, 121 S. Jackson Street, P.O. Box 339, McLeansboro, Illinois 62859.

Mine: White Oak Mine No. 1, MSHA I.D. No. 11-03203, located in Hamilton County, Illinois.

Regulation Affected: 30 CFR 75.1909(b)(6) (Nonpermissible diesel-powered equipment; design and performance requirements).

• Docket Number: M-2012-062-C.

FR Notice: 77 FR 27086 (5/8/2012).

Petitioner: Signal Peak Energy, LLC, 100 Portal Drive, Roundup, Montana 59072.

Mine: Bull Mountain Mine No. 1, MSHA I.D. No. 24-01950, located in Musselshell County, Montana.

Regulation Affected: 30 CFR 75.500(d) (Permissible electric equipment).

• Docket Number: M-2012-063-C.

FR Notice: 77 FR 27087 (5/8/2012).

Petitioner: Sebree Mining, LLC, 2668 State Route 120E, Providence, Kentucky 42450.

Mine: Sebree Mine #1, MSHA I.D. No. 15-19264, located in Webster County, Kentucky.

Regulation Affected: 30 CFR 75.1700 (Oil and gas wells).

• Docket Number: M-2012-072-C.

FR Notice: 77 FR 27094 (5/8/2012)

Petitioner: Consolidation Coal Company, 1000 CONSOL Energy Drive, Canonsburg, Pennsylvania 15317-6506.

Mine: Loveridge #22 Mine, MSHA I.D. No. 46-01433, located in Marion County, West Virginia.

Regulation Affected: 30 CFR 75.503 (Permissible electric face equipment; maintenance) and 30 CFR 18.35(a)(5)(i) (Portable trailing cables and cords).

• Docket Number: M-2012-081-C.

FR Notice: 77 FR 37927 (6/25/2012).

Petitioner: White Oaks Resources, LLC, 121 S. Jackson Street, McLeansboro, Illinois 62859.

Mine: White Oak Mine No. 1, MSHA Mine I.D. No. 11-03203, located in Hamilton County, Illinois.

Regulation Affected: 30 CFR 75.500(d) (Permissible electric equipment).

• Docket Number: M-2012-082-C.

FR Notice: 77 FR 37927 (6/25/2012).

Petitioner: White Oak Resources, LLC, 121 S. Jackson Street, McLeansboro, Illinois 62859.

Mine: White Oak Mine No. 1, MSHA I.D. No. 11-03203, located in Hamilton County, Illinois.

Regulation Affected: 30 CFR 75.1002(a) (Installation of electric equipment and conductors; permissibility).

• Docket Number: M-2013-002-C.

FR Notice: 78 FR 11231 (2/15/2013).

Petitioner: Wheels Coal Company, 59 Main Street, Tremont, Pennsylvania 17981.

Mine: No. 5 Vein Mine, MSHA I.D. No. 36-08679, located in Schuylkill County, Pennsylvania.

Regulation Affected: 30 CFR 75.1200(d) & (i) (Mine map).

• Docket Number: M-2013-017-C.

FR Notice: 78 FR 23309 (4/18/2013).

Petitioner: Highland Mining Company, LLC, 12312 Olive Boulevard, Suite 425, St. Louis, Missouri 63141.

Mine: Highland 9 Mine, MSHA I.D. No. 15-02709, located in Union County, Kentucky.

Regulation Affected: 30 CFR 75.1100-3 (Condition and examination of firefighting equipment).

• Docket Number: M-2013-018-C.

FR Notice: 78 FR 23310 (4/18/2013).

Petitioner: Gibson County Coal, LLC, P.O. Box 1269, Princeton, Indiana 47670.

Mine: Gibson North Mine, MSHA I.D. No. 12-02215, located in Gibson County, Indiana.

Regulation Affected: 30 CFR 75.503 (Permissible electric face equipment; maintenance) and 30 CFR 18.35(a)(5)(i) (Portable trailing cables and cords).

• Docket Number: M-2013-020-C.

FR Notice: 78 FR 29385 (5/20/2013).

Petitioner: Liberty Fuels Company, LLC, 4707 Highway 493, DeKalb, Mississippi 39328.

Mine: Liberty Mine, MSHA I.D. No. 22-00803, located in Kemper County, Mississippi.

Regulation Affected: 30 CFR 77.803 (Fail safe ground check circuits on high-voltage resistance grounded systems).

• Docket Number: M-2013-021-C.

FR Notice: 78 FR 35977 (6/14/2013).

Petitioner: Peabody Energy Company, 115 Grayson Lane, Eldorado, Illinois 62930.

Mine: Wildcat Hills Underground Mine, MSHA I.D. No. 11-03156, located in Saline County, Illinois.

Regulation Affected: 30 CFR 75.1909(b)(6) (Nonpermissible diesel-powered equipment; design and performance requirements).

• Docket Number: M-2013-023-C.

FR Notice: 78 FR 35979 (6/14/2013).

Petitioner: San Juan Coal Company, P.O. Box 561, Waterflow, New Mexico 87421.

Mine: San Juan Mine 1, MSHA I.D. No. 29-02170, located in San Juan County, New Mexico.

Regulation Affected: 30 CFR 75.503 (Permissible electric face equipment; maintenance) and 30 CFR 18.35(a)(5)(i) (Portable trailing cables and cords).

• Docket Number: M-2013-028-C.

FR Notice: 78 FR 36602 (6/18/2013).

Petitioner: Brody Mining, LLC, 33207 Pond Fork Rd., Wharton, West Virginia 25208.

Mine: Brody Mine No. 1, MSHA I.D. No. 46-09086, located in Boone County, West Virginia.

Regulation Affected: 30 CFR 75.1909(b)(6) (Nonpermissible diesel-powered equipment; design and performance requirements).

• Docket Number: M-2013-031-C.

FR Notice: 78 FR 49777 (8/15/2013).

Petitioner: Oak Grove Resources, LLC, 8360 Taylor's Ferry Road, Hueytown, Alabama 35023.

Mine: Oak Grove Mine, MSHA I.D. No. 01-00851, located in Jefferson County, Alabama.

Regulation Affected: 30 CFR 75.507 (Power connection points).

Dated: February 21, 2014.
Patricia W. Silvey,
Certifying Officer.

[FR Doc. 2014-04245 Filed 2-26-14; 8:45 am]

BILLING CODE 4510-43-P